DEPARTMENT OF HEALTH AND HUMAN SERVICES

National Institutes of Health

National Cancer Institute; Amended Notice of Meeting

Notice is hereby given of a change in the meeting of the National Cancer Institute Special Emphasis Panel, July 12, 2017, 11:00 a.m. to July 12, 2017, 3:00 p.m., National Cancer Institute Shady Grove, Shady Grove, 9609 Medical Center Drive, 7W114, Rockville, MD 20850 which was published in the Federal Register on May 31, 2017, 82 FR 24983.

The meeting notice is amended to change the meeting title to “Biospecimen and Innovative Technology”. The meeting is closed to the public.

Dated: June 27, 2017.
Melanie J. Pantoja,
Program Analyst, Office of Federal Advisory Committee Policy.

[FR Doc. 2017-13895 Filed 6-30-17; 8:45 am]

BILLING CODE 4140-01-P